DEPARTMENT OF HEALTH AND HUMAN SERVICES

Administration for Children and Families Office of Community Services; Grant to the Rural Community Assistance Program

AGENCY: Office of Community Services, Administration for Children and Families (ACF), Department of Health and Human Services (HHS).

ACTION: Award announcement.

CFDA #: The Catalog of Federal Domestic Assistance (CFDA) number for this program is 93.570. The title is Rural Community Development Activities Program (RF Program).

Amount of Award: $500,000.

SUMMARY: Notice is hereby given that a noncompetitive grant award is being made to the Rural Community Assistance Program, Inc. to provide training and technical assistance to small communities struggling to deal with the safety and security of small and very small community water and wastewater treatment systems. This award addresses Congressional concern that many small and very small community water and wastewater treatment systems might be most vulnerable to terrorist attack, yet the least prepared to deal with the issues.

The application is not within the scope of any existing or expected to be issued program announcement for the Fiscal Year 2005—Rural Community Development Activities Program (RF) as authorized under the Community Services Block Grant Act of 1998, as amended; Sections 680(a)(3)(B) of the Community Opportunities Accountability, and Training and Educational Services (COATES) Act (Pub. L. 105-285). This application is expected to provide valuable on-site training and technical assistance to small and very small communities struggling to deal with the safety and security of small community water and wastewater treatment systems. This announcement is inviting application for a 12-month budget period and a 12 month project period.

The funds are not being competed due to the Senate appropriation language in FY 2005 that directs the Office of Community Services to support a Rural Community Assistance Program Small Community Infrastructure Safety and Training and Technical project. Congress intends the funds to go to an organization that is capable of conducting a project that is national in scope that provides State, regional and national infrastructure safety training workshops and on-site technical assistance targeted to small and very small community water and wastewater treatment systems.

Contact for Further Information: Administration for Children and Families, Office of Community Services, 370 L'Enfant Promenade, SW., Washington, DC 20447, Veronica Terrell—(202) 401-5295, vterrell@acf.hhs.gov.

Dated: May 5, 2005.
Josephine B. Robinson,
Director, Office of Community Services.

[FR Doc. 05-9912 Filed 5-17-05; 8:45 am]

BILLING CODE 4184-01-P